DEPARTMENT OF COMMERCE

International Trade Administration

[A-201-802]

Gray Portland Cement and Clinker: Notice of Extension of Time Limit for Preliminary Results of Antidumping Duty Administrative Review

AGENCY: Import Administration, International Trade Administration, Department of Commerce.

ACTION: Notice of extension of time limit for preliminary results of antidumping duty administrative review.

EFFECTIVE DATE: April 23, 2001.

FOR FURTHER INFORMATION CONTACT: Davina Hashmi, AD/CVD Enforcement, Import Administration, International Trade Administration, U.S. Department of Commerce, 14th Street and Constitution Avenue, NW., Washington, DC 20230; telephone: (202) 482-0180.

The Applicable Statute

Unless otherwise indicated, all citations to the statute are references to the provisions effective January 1, 1995, the effective date of the amendments made to the Tariff Act of 1930 (the Act) by the Uruguay Round Agreements Act.

Extension of Time Limit for Preliminary Results

The Department of Commerce (the Department) received a request to conduct an administrative review of the antidumping duty order on Gray Portland Cement and Clinker from Mexico. On September 26, 2000, the Department initiated this administrative review covering the period August 1, 1999, through July 31, 2000.

This case involves numerous complex issues including whether sales are outside the ordinary course of trade, model-matching, and the initiation of a sales-below-cost investigation. In addition, to allow time for verifications, should we determine that it is necessary to conduct verifications, it is not practicable to complete this review within the time limit mandated by section 751(a)(3)(A) of the Act. Therefore, in accordance with that section, the Department is extending the time limit for the preliminary results to August 31, 2001. The Department intends to issue the final results of review 120 days after the publication of the preliminary results. This extension of the time limit is in accordance with section 751(a)(3)(A) of the Act.

Dated: April 16, 2001.
Richard W. Moreland,
Deputy Assistant Secretary for Import Administration.

[FR Doc. 01-9978 Filed 4-20-01; 8:45 am]

BILLING CODE 3510-DS-P